OFFICE OF MANAGEMENT AND BUDGET

Grants Related Information Collections Under OMB Review

AGENCY: Office of Management and Budget.

ACTION: Notice of submission for OMB review, comment request.

SUMMARY: In accordance with the Paperwork Reduction Act of 1980, as amended (44 U.S.C. 3501 et seq.), this notice announces that eight information collection renewal requests were submitted to the Office of Management and Budget's (OMB) Office of Information and Regulatory Affairs (OIRA) for processing under 5 CFR 1320.10. The first notice of these information collection renewals was published in the Federal Register, as required by the Paperwork Reduction Act, on October 29, 2004 [69 FR 63186], and invited the general public and Federal agencies to comment on the renewal without change of eight (8) standard forms: the SF-269, Financial Status Report (long form); SF-269A, Financial Status Report (short form); SF-272, Federal Cash Transactions Report; SF-272A, Federal Cash Transactions Report (continuation); SF-424A, Budget Information—Nonconstruction Programs; SF-424B, Assurances—Non-construction Programs; SF-424C, Budget Information—Construction Programs; and SF-424D, Assurances—Construction Programs. These forms are currently required by OMB Circular A-102, “Grants and Cooperative Agreements with State and Local Governments,” and Title 2 Code of Federal Regulations Part 215 (OMB Circular A-110, “Uniform Administrative Requirements for Grants and Agreements with Institutions of Higher Education, Hospitals, and Other Non-Profit Organizations.” These eight forms will continue to be used while interagency teams working under two streamlining initiatives (the Grants.gov E-Gov effort and the P.L.106-107 implementation work groups) complete the final consolidated data standards.

DATES: Comments must be submitted on or before March 7, 2005. Late comments will be considered to the extent practicable.

ADDRESSES: Due to potential delays in OMB's receipt and processing of mail sent through the U.S. Postal Service, we encourage respondents to submit comments electronically to ensure timely receipt. We cannot guarantee that comments mailed will be received before the comment closing date. Electronic mail comments may be submitted to: ahunt@omb.eop.gov. Please include “Grant Forms” in the subject line and place the full body of your comments in the text of the electronic message (and as an attachment if you wish). Please include your name, title, organization, postal address, telephone number, and E-mail address in the text of the message. Comments may also be submitted via Facsimile to 202-395-7285. Comments may be mailed to Alexander Hunt, Office of Information and Regulatory Affairs, Office of Management and Budget, Room 10236, New Executive Office Building, 725 17th Street, NW., Washington, DC 20503.

FOR FURTHER INFORMATION CONTACT: Elizabeth Phillips, Office of Federal Financial Management, Office of Management and Budget, (202) 395-3993. The standard forms can be downloaded from the OMB Grants Management home page (http://www.whitehouse.gov/omb/grants) by selecting the “Forms” option.

SUPPLEMENTARY INFORMATION:

A. Background

OMB Control No.: 0348-0039.

Title: Financial Status Report (Long Form).

Form No.: SF-269.

Type of Review: Extension of a currently approved collection.

Respondents: States, Local Governments, non-profit organizations.

Number of Responses: 100,000.

Estimated Time Per Response: 60 minutes.

Needs and Uses: The SF-269 is used to report on outlays, including use of any earned program income and matching funds contributed by the grantee. The Federal awarding agencies and OMB use information reported on this form for general management of Federal assistance program awards.

OMB Control No.: 0348-0038.

Title: Financial Status Report (Short Form).

Form No.: SF-269A.

Type of Review: Extension of a currently approved collection.

Respondents: States, Local Governments, non-profit organizations.

Number of Responses: 50,000.

Estimated Time Per Response: 40 minutes.

Needs and Uses: The SF-269A is used to report on outlays, including use of any earned program income and matching funds contributed by the grantee. The Federal awarding agencies and OMB use information reported on this form for general management of Federal assistance program awards.

OMB Control No.: 0348-0003.

Title: Federal Cash Transactions Report.

Form No.: SF-272.

Type of Review: Extension of a currently approved collection.

Respondents: States, Local Governments, non-profit organizations.

Number of Responses: 50,000.

Estimated Time Per Response: 40 minutes.

Needs and Uses: The SF-272 is used to report on cash received. The Federal awarding agencies and OMB use information reported on this form for general management of Federal assistance program awards.

OMB Control No.: 0348-0003.

Title: Federal Cash Transactions Report (continuation).

Form No.: SF-272A.

Type of Review: Extension of a currently approved collection.

Respondents: States, Local Governments, non-profit organizations.

Number of Responses: 25,000.

Estimated Time Per Response: 40 minutes.

Needs and Uses: The SF-272A is used to report on cash received. The Federal awarding agencies and OMB use information reported on this form for general management of Federal assistance program awards.

OMB Control No.: 0348-0044.

Title: Budget Information—Non-Construction.

Form No.: SF-424A.

Type of Review: Extension of a currently approved collection.

Respondents: States, Local Governments, non-profit organizations.

Number of Responses: 100,000.

Estimated Time Per Response: 60 minutes.

Needs and Uses: The SF-424A is used to provide budget information when applying for non-construction Federal grants. The Federal awarding agencies use information reported on this form for the award and general management of Federal assistance program awards.

OMB Control No.: 0348-0040.

Title: Assurances—Non-construction Programs.

Form No.: SF-424B.

Type of Review: Extension of a currently approved collection.

Respondents: States, Local Governments, non-profit organizations.

Number of Responses: 100,000.

Estimated Time Per Response: 10 minutes.

Needs and Uses: The SF-424B is used to provide information on required assurances when applying for non-construction Federal grants. The Federal awarding agencies use information reported on this form for the award and general management of Federal assistance program awards.

OMB Control No.: 0348-0041.

Title: Budget Information—Construction Programs.

Form No.: SF-424C.

Type of Review: Extension of a currently approved collection.

Respondents: States, Local Governments, non-profit organizations.

Number of Responses: 40,000.

Estimated Time Per Response: 60 minutes.

Needs and Uses: The SF-424C is used to provide budget information when applying for Federal construction grants. The Federal awarding agencies use information reported on this form for the award and general management of Federal assistance program awards.

OMB Control No.: 0348-0042.

Title: Assurances—Construction Programs.

Form No.: SF-424D.

Type of Review: Extension of a currently approved collection.

Respondents: States, Local Governments, non-profit organizations.

Number of Responses: 40,000.

Estimated Time Per Response: 10 minutes.

Needs and Uses: The SF-424D is used to provide information on required assurances when applying for Federal construction grants. The Federal awarding agencies use information reported on this form for the award and general management of Federal assistance program awards.

B. Public Comments and Responses

Pursuant to the October 29, 2004, Federal Register notice, OMB received two comment letters relating to the proposed information collection renewals. One commentor noted the “Needs and Uses” statements for the SF-269 and SF-269A was incorrect. We agree, and have corrected those statements in this notice. The other comment from a State government agency related exclusively to the SF-424 form not being posted in a “fill-enabled and electronically saveable” format. We encourage use of the electronic application process under Grants.gov (http://www.grants.gov) where the SF-424 is fill-enabled and electronically saveable. The form posted on OMB's website is available in read-only “pdf” format.

David Zavada,
Chief, Financial Standards and Grants Branch.

[FR Doc. 05-2103 Filed 2-3-05; 8:45 am]

BILLING CODE 3110-01-P